DEPARTMENT OF HEALTH AND HUMAN SERVICES

National Institutes of Health

National Cancer Institute Amended; Notice of Meeting

Notice is hereby given of a change in the meeting of the Frederick National Laboratory Advisory Committee to the National Cancer Institute, May 11, 2016, 08:00 a.m. to May 11, 2016, 05:00 p.m., National Cancer Institute Shady Grove, 9609 Medical Center Drive, TE406, Rockville, MD, 20850 which was published in the Federal Register on April 4, 2016, 81 FR 19210.

The meeting notice is amended to change the start and end time from 8:00 a.m.-5:00 p.m. to 8:30 a.m.-5:15 p.m. The meeting is open to the public.

Dated: April 26, 2016.
Melanie J. Gray,
Program Analyst, Office of Federal Advisory Committee Policy.

[FR Doc. 2016-10029 Filed 4-28-16; 8:45 am]

BILLING CODE 4140-01-P